DEPARTMENT OF JUSTICE

Antitrust Division

Notice Pursuant to The National Cooperative Research and Production Act of 1993—Open DeviceNet Vendor Association, Inc.

Notice is hereby given that, on May 31, 2006, pursuant to Section 6(a) of the National Cooperative Research and Production Act of 1993, 15 U.S.C. 4301 et seq. (“the Act”), Open DeviceNet Vendor Association, Inc. (“ODVA”) has filed written notifications simultaneously with the Attorney General and the Federal Trade Commission disclosing changes in its membership. The notifications were filed for the purpose of extending the Act's provisions limiting the recovery of antitrust plaintiffs to actual damages under specified circumstances. Specifically, ITT Industries, Inc., White Plains, NY; Northwire, Inc., Osceola, WI; Moog, Inc., East Aurora, NY; RFID, Inc., Aurora, CO; AGM Electronics, Inc., Tucson, AZ; N-Tron Corporation, Mobile, AL; Seiko Epson, Nagano-kon, Japan; ARCX, Inc., Toronto, Ontario, Canada; Bird Electronic Corporation, Solon, OH; EIM Controls, Inc., Missouri City, TX; ifak systems GmbH, Magdeburg, Germany; Rockwell Automation, Inc., Milwaukee, WI; ProSoft Technology, Bakersfield, CA; Baldor Electric, Fort Smith, AR; AquaSensors, LLC, Menomonee Falls, WI; and Toyogiken Co., Ltd., Nagano, Japan have been added as parties to this venture.

Also, Danaher Motion/Kollmorgen, Radford, VA; DVT Corporation, Duluth, GA; Flexible Machine Controls, Wendywood, South Africa; Intelligent Motion Systems, Marlborough, CT; MKS Instruments, CIT Group, Austin, TX; NSK Precision Co., Ltd., Kanagawa, Japan; Scientific Technologies, Inc., Freemont, CA; Shanghai Aton Electric Co., Ltd., Shanghai, People's Republic of China; Wind River Systems, Inc., Alameda, CA; and Power-IO, Naperville, IL have withdrawn as parties to this venture. Also, Beckhoff Industrie Elektronik has changed its name to Beckhoff Automation GmbH, Nurnberg, Germany.

No other changes have been made in either the membership or planned activity of the group research project. Membership in this group research project remains open, and ODVA intends to file additional written notification disclosing all changes in membership.

On June 21, 1995, ODVA filed its original notification pursuant to Section 6(a) of the Act. The Department of Justice published a notice in the Federal Register pursuant to Section 6(b) of the Act on February 15, 1996 (61 FR 6039).

The last notification was filed with the Department on February 10, 2006. A notice was published in the Federal Register pursuant to Section 6(b) of the Act on March 7, 2006 (71 FR 11453).

Dorothy B. Fountain,
Deputy Director of Operations, Antitrust Division.

[FR Doc. 06-5414 Filed 6-14-06; 8:45 am]

BILLING CODE 4410-11-M